DEPARTMENT OF ENERGY

Federal Energy Regulatory Commission

Sunshine Act Meeting

September 19, 2001.

The following notice of meeting is published pursuant to section 3(a) of the Government in the Sunshine Act (Pub. L. No. 94-409), 5 U.S.C. 552B:

AGENCY HOLDING MEETING: Federal Energy Regulatory Commission.

DATE AND TIME: September 26, 2001, 10 a.m.

PLACE: Room 2C, 888 First Street, NE., Washington, DC 20426.

STATUS: Open.

MATTERS TO BE CONSIDERED: Agenda.

Note: Items listed on the agenda may be deleted without further notice.

CONTACT PERSON FOR MORE INFORMATION: David P. Boergers, Secretary, Telephone (202) 208-0400. For a recording listing items stricken from or added to the meeting, call (202) 208-1627.

This is a list of matters to be considered by the commission. It does not include a listing of all papers relevant to the items on the agenda; however, all public documents may be examined in the reference and information center.

774th Meeting September 26, 2001; Regular Meeting 10 a.m.

Administrative

A-1.

Docket# AD01-1, 000, Strategic and 2002 Business Plans

A-2.

Docket# AD01-2, 000, Infrastructure Adequacy

A-3.

Docket# AD01-3, 000, California Infrastructure Update

A-4.

Docket# AD01-4, 000, Building Update

A-5.

Docket# AD01-5, 000, Delegations of Authority

Miscellaneous Agenda

M-1.

Docket# RM01-10, 000, Standards of Conduct for Transmission Providers

M-2.

Docket# RM01-11, 000, Electronic Service of Documents

Markets, Tariffs and Rates—Electric

E-1.

Docket# EX01-1, 000, Discussion on Provision of Adequate Electrical Capacity

E-2.

Docket# EX01-2, 000, Significant National Transmission Constraints Discussion

E-3.

Docket# EX01-3, 000, Discussion of RTO Progress

E-4.

Docket# EX01-4, 000, Discussion of Market-Based Rate Reviews

E-5.

Omitted

E-6.

Docket# ER01-2735, 000, PJM Interconnection, L.L.C.

E-7.

Omitted

E-8.

Docket# ER01-2822, 000, Southern Power Company

Other#s ER00-2998, 001, Southern Company Services, Inc.

ER00-2999, 001, Southern Company Services, Inc.

ER00-3000, 001, Southern Company Services, Inc.

ER00-3001, 001, Southern Company Services, Inc.

ER01-2824, 000, Southern Power Company

E-9.

Docket# ER01-2736; 000 Niagara Mohawk Power Corporation

Other#s ER01-2803, 000, Niagara Mohawk Power Corporation

E-10.

Docket# EC01-130, 000, American Electric Power Service Corporation

Other#s ER01-2668, 000, American Electric Power Company, Inc.

E-11.

Docket# EF00-2012, 000, United States Department of Energy—Bonneville Power Administration

Other#s EF00-2012, 001, United States Department of Energy—Bonneville Power Administration

E-12.

Docket# ER01-2732, 000, Perryville Energy Partners, L.L.C.

Other#s ER00-2998, 001, Southern Company Services, Inc.

ER00-2999, 001, Southern Company Services, Inc.

ER00-3000, 001, Southern Company Services, Inc.

ER00-3001, 001, Southern Company Services, Inc.

E-13.

Docket# EC01-97, 000, Energy East Corporation and RGS Energy Group, Inc.

E-14.

Docket# EC01-101, 000, Potomac Electric Power Company

E-15.

Docket# TX96-4, 000, Suffolk County Electrical Agency

E-16.

Docket# TX95-5, 000, Southern Company Services, Inc.

E-17.

Omitted

E-18.

Omitted

E-19.

Docket# ER01-2099, 001, Neptune Regional Tranmission System, LLC

E-20.

Omitted

E-21.

Docket# ER01-770, 003, Arizona Public Service Company

Other#s ER01-917, 003, Arizona Public Service Company

E-22.

Docket# ER00-864, 001, New York Independent System Operator, Inc.

E-23.

Docket# ER00-1969, 002, New York Independent System Operator, Inc.

Other#s EL00-57, 001, Niagara Mohawk Power Corporation v. New York Independent System Operator, Inc.

EL00-57, 002, Niagara Mohawk Power Corporation v. New York Independent System Operator, Inc.

EL00-60, 001, Orion Power New York GP, Inc. v. New York Independent System Operator, Inc.

EL00-60, 002, Orion Power New York GP, Inc. v. New York Independent System Operator, Inc.

EL00-63, 001, New York State Electric & Gas Corporation v. New York Independent System Operator, Inc.

EL00-63, 002, New York State Electric & Gas Corporation v. New York Independent System Operator, Inc.

EL00-64, 000, Rochester Gas and Electric Corporation v. New York Independent System Operator, Inc.

EL00-64, 002, Rochester Gas and Electric Corporation v. New York Independent System Operator, Inc.

ER00-1969, 003, New York Independent System Operator, Inc.

E-24.

Docket# EL00-62, 004, ISO New England Inc.

Other#s EL00-62, 005, ISO New England Inc.

EL00-62, 006, ISO New England Inc.

E-25.

Docket# ER00-3038, 001, New York Independent System Operator, Inc.

Other#s EL00-70, 002, New York State Electric & Gas Corporation v. New York Independent System Operator, Inc.

E-26.

Docket# TX00-1, 001, United States Department of Energy—Western Area Power Administration, Colorado River Storage Project Management Center

Other#s ER00-896, 001 Public Service Company of New Mexico

E-27.

Docket# EL99-14, 002, Southwestern Electric Cooperative, Inc. v. Soyland Power Cooperative, Inc.

E-28.

Omitted

E-29.

Docket# EL01-45, 004, Consolidated Edison Company of New York

Other#s ER01-1385, 002, Consolidated Edison Company of New York

E-30.

Omitted

E-31.

Omitted

E-32.

Omitted

E-33.

Docket# EL01-3, 000, Morgan Stanley Capital Group, Inc. v. PJM Interconnection, L.L.C.

E-34.

Docket# EL01-89, 000, Morgan Stanley Capital Group, Inc. v. California Independent System Operator Corporation

E-35.

Docket# EL00-62, 028, ISO New England, Inc.

E-36.

Omitted

E-37.

Docket# ER01-2784, 000, Calpine Construction Finance Company, L.P.

Other#s ER00-2998, 001, Southern Company Services, Inc.

ER00-2999, 001, Southern Company Services, Inc.

ER00-3000, 001, Southern Company Services, Inc.

ER00-3001, 001, Southern Company Services, Inc.

E-38.

Docket# EL01-74, 000, Western Systems Coordinating Council, Western Regional Transmission Association and Southwest Regional Transmission Association

Other#s ER01-2058, 000, Western Systems Coordinating Council, Western Regional Transmission Association and Southwest Regional Transmission Association

Markets, Tariffs and Rates—Gas

G-1.

Docket# RP01-521, 000, Trailblazer Pipeline Company

G-2.

Docket# RP01-561, 000, Egan Hub Partners, L.P.

G-3.

Docket# RP01-510, 000, Columbia Gas Transmission Corporation

G-4.

Docket# RP01-563, 000, Northern Border Pipeline Company

G-5.

Docket# RP01-536, 000, Florida Gas Transmission Company

G-6.

Docket# RP01-350, 000, Colorado Interstate Gas Company

Other#s RP01-200, 002, Colorado Interstate Gas Company

RP01-350, 001, Colorado Interstate Gas Company

G-7.

Omitted

G-8.

Omitted

G-9.

Docket# RP01-570, 000, Colorado Interstate Gas Company

G-10.

Docket# PR01-13, 000, DeSoto Pipeline Company, Inc.

Other#s PR01-13, 001, DeSoto Pipeline Company, Inc.

G-11.

Docket# PR01-14, 000, Enogex, Inc.

G-12.

Docket# RP01-298, 000, Williams Gas Pipelines Central, Inc.

G-13.

Omitted

G-14.

Omitted

G-15.

Omitted

G-16.

Omitted

G-17.

Docket# PR00-9, 000, EPGT Texas Pipeline, L.P.

G-18.

Docket# IS01-292, 000, SFPP, L.P.

G-19.

Docket# RP00-601, 003, Dominion Transmission, Inc.

G-20.

Docket# RP01-292, 004, Mississippi River Transmission Corporation

Other#s RP01-292, 003, Mississippi River Transmission Corporation

G-21.

Omitted

G-22.

Omitted

G-23.

Omitted

G-24.

Docket# MG01-22, 000, Iroquois Gas Transmission System, L.P.

G-25.

Docket# RM96-1, 015, Standards for Business Practices of Interstate Natural Gas Pipelines

G-26.

Docket# RM96-1, 019, Standards for Business Practices of Interstate Natural Gas Pipelines

Other#s RM98-12, 008, Regulation of Interstate Natural Gas Transportation Services

RM98-10, 008, Regulation of Short-Term Natural Gas Transportation Services

G-27.

Omitted

G-28.

Docket# RP01-433, 000, Summit Power NW, LLC v. Portland General Electric Company

G-29.

Omitted

G-30.

Docket# RP01-236, 001, Transcontinental Gas Pipe Line Corporation

Other#s RP00-481, 001, Transcontinental Gas Pipe Line Corporation

RP00-553, 004, Transcontinental Gas Pipe Line Corporation

G-31.

Docket# RP01-245, 003, Transcontinental Gas Pipe Line Corporation

G-32.

Docket# IS01-291, 000, Calnev Pipe Line, L.L.C.

G-33.

Docket# GX01-1, 000, Discussion of Gas Pipeline Operational Flow Orders

G-34.

Docket# GX01-2, 000, Discussion of Efficient and Effective Collection of Data

Energy Projects—Hydro

H-1.

Docket# P-2114, 096, Public Utility District No. 2 of Grant County, Washington

Other#s P-2114, 097, Public Utility District No. 2 of Grant County, Washington

H-2.

Docket# P-2413, 040, Georgia Power Company

H-3.

Omitted

Energy Projects—Certificates

C-1.

Docket# CP00-36, 002, Guardian Pipeline, L.L.C.

Other#s CP01-401, 000, Northern Natural Gas Company

C-2.

Docket# CP01-153, 000, Tuscarora Gas Transmission Company

Other#s CP01-153, 001, Tuscarora Gas Transmission Company

C-3.

Omitted

C-4.

Docket# CP01-17, 001, Algonquin Gas Transmission Company

Other#s CP01-17, 002, Algonquin Gas Transmission Company

C-5.

Docket# CP95-516, 002, Enron Gulf Coast Gathering, L.P.

Other#s CP95-519, 002, Northern Natural Gas Company

C-6.

Docket# CP01-90, 001, El Paso Natural Gas Company

Other#s RP00-336, 004, El Paso Natural Gas Company

C-7.

Docket# CP01-157, 001, Georgia-Pacific Corporation

David P. Boergers,
Secretary.

[FR Doc. 01-23910 Filed 9-20-01; 2:07 pm]

BILLING CODE 6717-01-P